DEPARTMENT OF COMMERCE

National Oceanic and Atmospheric Administration

Proposed Information Collection; Comment Request; Pacific Coast Groundfish Rationalization Sociocultural Study

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before September 24, 2019.

ADDRESSES: Direct all written comments to Adrienne Thomas, Government Information Specialist, NOAA, 151 Patton Avenue, Room 159, Asheville, NC 28801 (or via the internet at PRAcomments@doc.gov). All Personally Identifiable Information (for example, name and address) voluntarily submitted by the commenter may be publicly accessible. Do not submit Confidential Business Information or otherwise sensitive or protected information.

FOR FURTHER INFORMATION CONTACT: Requests for additional information or copies of the information collection instrument and instructions should be directed to Suzanne Russell, Human Dimensions Team, Northwest Fisheries Science Center, 2725 Montlake Blvd. East, Seattle, WA 98112, (206) 860-3274, Suzanne.russell@noaa.gov.

SUPPLEMENTARY INFORMATION:

I. Abstract

This request is for an extension of a currently approved information collection (revision). The revision consists of minor changes to the information collection tool.

Historically, changes in fisheries management regulations result in impacts to both individuals and fishing communities tied to fisheries. An understanding of social impacts, achieved through the collection of data from individuals whom fish and live in fishing communities is a requirement under several federal laws. The National Environmental Protection Act (NEPA) and the Magnuson Stevens Fishery Conservation Act (as amended 2007) describe such requirements. The collection of this data not only informs legal requirements for existing management actions, but also provides information for future and ongoing management actions requiring equivalent information.

Literature indicates fisheries' rationalization programs have an impact on those individuals participating in the affected fishery. The Pacific Fisheries Management Council implemented a rationalization program for the Pacific Coast Groundfish limited entry trawl fishery in January 2011. This research aims to continue to study the individuals in the affected fishery over the long term. Data collection will transition to a five-year cycle, beginning in FY 2020. Prior data collection related to program design elements. A baseline data collection occurred in 2010, followed by a second post-implementation collection in 2012, and a post quota-share trading collection in 2015/2016. The data collected has contributed to the five-year review of the program and highlighted several areas for continued research. Efforts have also identified the need for long-term data collection as species recover and external factors affect fishermen in this fishery as they continue to be faced with issues of underutilization, high costs of participation, and other challenges. This issue has been able to highlight several issues such as `graying of the fleet' in smaller communities, changing women's roles in commercial fishing, and fishermen's adaptations under the new regulations. Continued research will identify and clarify continued and long-term social impacts. These efforts are critical and are a puzzle piece, that combined with the ongoing mandatory Economic Data Collection (EDC) and biological data collection, provides the Pacific Fisheries Management Council extensive information on concerns and impacts to fishing communities.

Information from future and past data collections provide a time series data set of sociocultural information, indicating changes in the fishing communities. Data can inform multiple regulatory efforts as needed. Future data collection efforts will inform the 10-year review of the program. Primarily, this data collection will meet legal requirements to study and understand fishing communities and the individuals whom live in those communities.

This study is managed by the Human Dimensions Team, Ecosystem Science Program, Conservation Biology Division, Northwest Fisheries Science Center, National Marine Fisheries Service, Seattle, WA.

II. Method of Collection

In-person paper surveys and interviews are the primary data collection tools. Electronic surveys, verbal communications and collaborations with key informants, with the potential for small focus groups all supplement the primary tools for the greatest breadth of data collection possible.

III. Data

OMB Control Number: 0648-0606.

Form Number(s): None.

Type of Review: Revision and extension of a currently approved collection.

Affected Public: Individuals or households; Business or other for-profit organizations.

Estimated Number of Respondents: 350.

Estimated Time per Response: 1 hour.

Estimated Total Annual Burden Hours: 800.

Estimated Total Annual Cost to Public: 0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Departmental Lead PRA Officer, Office of the Chief Information Officer, Commerce Department.

[FR Doc. 2019-15882 Filed 7-25-19; 8:45 am]

BILLING CODE 3510-22-P